DEPARTMENT OF ENERGY

Federal Energy Regulatory Commission

Notice of Request To Use Alternative Procedures in Preparing a License Application

December 28, 2005.

Take notice that the following request to use alternative procedures to prepare a license application has been filed with the Commission.

a. Type of Application: Request to use alternative procedures to prepare a new license application.

b. Project No.: 12478-000.

c. Date Filed: December 7, 2005.

d. Applicant: Gibson Dam Hydroelectric Company, LLC.

e. Name of Project: Gibson Dam Hydroelectric Project.

f. Location: On Sun River in Lewis and Clark County, Montana. The project would be located at the U.S. Bureau of Reclamation's Gibson Dam. The project would also occupy lands within the Lewis and Clark National Forest.

g. Filed Pursuant to: Federal Power Act, 16 U.S.C. 791(a)-825(r).

h. Applicant Contact: Steve C. Marmon, Project Manager, Gibson Dam Hydroelectric Company, LLC, 3633 Alderwood Avenue, Bellingham, WA 98225; (360) 738,9999.

i. FERC Contact: David Turner at (202) 502-6091; e-mail David.Turner@ferc.gov.

j. Deadline for Comments: 30 days from the date of this notice.

All documents (original and eight copies) should be filed with:Magalie R. Salas, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link.

k. The project would be located at the U.S. Bureau of Reclamation Gibson Dam on the Sun River. The project would consist of a power house containing one 7 MW and two 1.5 MW horizontal Francis-type turbines. Two powerhouse alternatives are being considered: one near the base of the Gibson dam, the other near the Gibson Dam outlet works. Power would be transmitted via a 69 kV transmission along one of two possible routes originating from a step-up substation near the Forest Service boundary: a 18 mile long route along Sun River Canyon Road to the South Augusta Substation near Augusta, Montana; or a seven-mile-long cross country route to either the Northwest Energy substation or North Augusta substation north of Augusta, Montana.

l. A copy of the request to use alternative procedures is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

m. Gibson Dam Hydroelectric has demonstrated that it has made an effort to contact all Federal and state resources agencies, non-governmental organizations (NGO), and others affected by the project. Gibson Dam Hydroelectric has also demonstrated that a consensus exists that the use of alternative procedures is appropriate in this case. Gibson Dam Hydroelectric has submitted a communications protocol that is supported by the stakeholders.

The purpose of this notice is to invite any additional comments on Gibson Dam Hydroelectric request to use the alternative procedures, pursuant to Section 4.34(i) of the Commission's regulations. Additional notices seeking comments on the specific project proposal, interventions and protests, and recommended terms and conditions will be issued at a later date. Gibson Dam Hydroelectric will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Gibson Dam Hydroelectric issued an initial consultation document describing the proposed project on February 15, 2005. Agency and public meetings and a site visit for the project were conducted during the week of March 28, 2005.

Magalie R. Salas,
Secretary.

[FR Doc. E6-48 Filed 1-6-06; 8:45 am]

BILLING CODE 6717-01-P